DEPARTMENT OF ENERGY

Federal Energy Regulatory Commission

[Docket No. EL07-47-000]

People of State of Illinois, ex rel., Illinois Attorney General Lisa Madigan, Complainant v. Exelon Generation Co., LLC, Constellation Energy Commodities Group, Inc., Dynegy Power Marketing, Inc., J.P. Morgan Ventures Energy Corporation, Ameren Energy Marketing Company, American Electric Power Service Corporation, Conectiv Energy Supply, Inc., DTE Energy Trading, Inc., Edison Mission Marketing & Trading, Inc., Energy America, LLC, FPL Energy Power Marketing, Inc., J. Aron & Company, Morgan Stanley Capital Group, Inc., PPL EnergyPlus, LLC, Sempra Energy Trading Corp., WPS Energy Services, Inc., Respondents; Notice of Complaint

March 21, 2007.

Take notice that on March 16, 2007, pursuant to sections 205, 206 and 222 of the Federal Power Act, 16 U.S.C. 824d, 824e and 824v, and Rule 206 of the Rules of Practice and Procedure of the Federal Energy Regulatory Commission (Commission), 18 CFR 385.206, the People of the State of Illinois, ex rel. Illinois Attorney General Lisa Madigan (complainant) filed a formal amended complaint against Exelon Generation Co., LLC, Constellation Energy Commodities Group, Inc., Dynegy Power Marketing, Inc., J.P. Morgan Ventures Energy Corporation, Ameren Energy Marketing Company, American Electric Power Service Corporation, Conectiv Energy Supply, Inc., DTE Energy Trading, Inc., Edison Mission Marketing & Trading, Inc., Energy America, LLC, FPL Energy Power Marketing, Inc., J. Aron & Company, Morgan Stanley Capital Group, Inc., PPL EnergyPlus, LLC, Sempra Energy Trading Corp. and WPS Energy Services, Inc., (collectively respondents) requesting that the Commission investigate evidence of price manipulation in the Illinois auction, require refunds for sales at rates that are not just and reasonable, and direct certain wholesale electricity suppliers to show cause why their market-based rate authority should not be revoked.

The Complainant states that copies of the public version of the complaint have been served on the respondents, Commonwealth Edison, Ameren, and the Illinois Commerce Commission. The Complainant also states a non-public version of the complaint was served on the Illinois Commerce Commission.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 16, 2007.

Philis J. Posey,
Acting Secretary.

[FR Doc. E7-5518 Filed 3-26-07; 8:45 am]

BILLING CODE 6717-01-P